POSTAL SERVICE

39 CFR Part 912

Procedures To Adjudicate Claims for Personal Injury or Property Damage Arising Out of the Operation of the U.S. Postal Service

AGENCY: Postal Service.

ACTION: Final rule.

SUMMARY: This rule amends the Postal Service's regulations concerning tort claims to clarify the procedure for amending claims, and to update mailing addresses.

DATES: Effective Date: December 11, 2008.

FOR FURTHER INFORMATION CONTACT: Ruth A. Przybeck, Chief Counsel, National Tort Center, P.O. Box 66640, St. Louis, MO 63141-0640; telephone (314) 872-5120.

SUPPLEMENTARY INFORMATION: Amendment of part 912 is necessary to clarify the procedure in § 912.5 for amending claims, and to update mailing addresses. This rule is a change in agency rules of procedure that does not substantially affect any rights or obligations of private parties. Therefore, it is appropriate for its adoption by the Postal Service to become effective immediately.

List of Subjects in 39 CFR Part 912

Administrative practice and procedure; Claims.

For the reasons set forth above, the Postal Service amends 39 CFR part 912 as follows:

PART 912—[AMENDED]

1. The authority citation for part 912 continues to read as follows:

Authority: 28 U.S.C. 2671-2680; 28 CFR 14.1 through 14.11; 39 U.S.C. 409.

§ 912.4 [Amended]

2. In § 912.4, remove the address “P.O. Box 66640, St. Louis, MO 63166-6640” and add “P.O. Box 66640, St. Louis, MO 63141-0640” in its place.

3. In § 912.5, add paragraph (c) to read as follows:

§ 912.5 Administrative claim; when presented.

* * * * *

(c) Amendments shall be submitted in writing and signed by the claimant or his duly authorized agent or legal representative. Upon the timely filing of an amendment to a pending claim, the Postal Service shall have six months in which to make final disposition of the claim as amended, and the claimant's option under 28 U.S.C. 2675(a) shall not accrue until six months after the filing of an amendment.

§ 912.9 [Amended]

4. Amend § 912.9 as follows:

a. In paragraph (b), remove the address “P.O. Box 66640, St. Louis, MO 63166-6640” and add “P.O. Box 66640, St. Louis, MO 63141-0640” in its place.

b. In paragraph (c), remove the address “P.O. Box 66640, St. Louis, MO 63166-6640” and add “P.O. Box 66640, St. Louis, MO 63141-0640” in its place.

Stanley F. Mires,
Chief Counsel, Legislative.

[FR Doc. E8-29299 Filed 12-10-08; 8:45 am]

BILLING CODE 7710-12-P